DEPARTMENT OF TRANSPORTATION

National Highway Traffic Safety Administration

Reports, Forms, and Record Keeping Requirements Agency Information Collection Activity Under OMB Review

AGENCY: National Highway Traffic Safety Administration (NHTSA), DOT.

ACTION: Notice of the OMB review of information collection and solicitation of public comment.

SUMMARY: In compliance with the Paperwork Reduction Act of 1995, this notice announces that the Information Collection Request (ICR) abstracted below will be submitted to the Office of Management and Budget (OMB) for review. The ICR describes the nature of the information collection and its expected burden. A Federal Register Notice with a 60-day comment period soliciting public comments on the following information collection was published on July 17, 2017 (Federal Register/Vol. 82, No. 135/pp. 32757-32758).

DATES: Submit comments to the Office of Management and Budget (OMB) on or before April 19, 2018.

FOR FURTHER INFORMATION CONTACT: Amy Berning, Contracting Officer's Representative—Task Order, DOT/NHTSA (NTI-131), 1200 New Jersey Avenue SE, W46-497, Washington, DC 20590. Ms. Berning's phone number is (202) 366-5587 and her email address is amy.berning@dot.gov.

SUPPLEMENTARY INFORMATION:

OMB Control Number: None.

Title: Crash Risk Associated with Drug and Alcohol Use by Drivers in Fatal and Serious Injury Crashes.

Form No.: NHTSA Form 1420, 1421, 1422.

Type of Review: Regular.

Respondents: Participants will include seriously or fatally injured crash-involved drivers (n = 2,500) and matched non-crash-involved drivers(n = 5,000). Crash-involved drivers will include seriously injured drivers who are transported to a trauma center by emergency medical services and fatally injured drivers who are transported directly to the medical examiner's office. Sampling will occur at three trauma centers and within the roadway catchment area served by the trauma center(s). Non-crash-involved drivers will be matched to injured drivers on crash day of the week, crash time of day, and crash direction of travel.

Estimated Time per Participant: Surveys will be administered to control participants. Questions will be on demographics, trip information, and opinions about driving while using alcohol and or drugs. Control participants will also be asked to provide a preliminary breath test (PBT) sample, and a blood sample.

For control subjects, the total estimated time is approximately 5 minutes to complete the recruiting and consent process, 5 minutes to complete the survey, and 10 minutes to provide PBT and blood samples (20 minutes total). The time to decline participation would take approximately 1 minute to listen to the researcher describe the study. A person may drive away if not interested in participating.

For crash-involved drivers who survived, it will take less than one minute for obtaining the blood sample, and 4 minutes to review the study's description—and if not interested in participating—to complete the “opt-out” form (5 minutes total).

For crash-involved drivers who died, it will take less than one minute to obtain the blood sample. There will be no burden to the deceased person or to the public.

Total Estimated Annual Burden Hours: 965.5 hours per year; for a total of 1,931 hours across two years.

Frequency of Collection: Each participant will only respond to the survey and/or blood sample requests a single time during the study period.

Abstract: The National Highway Traffic Safety Administration (NHTSA) seeks to examine the risk of being severely or fatally injured in a motor vehicle crash when drivers use licit and/or illicit drugs. This effort will involve studying seriously or fatally injured drivers in crashes and matched non-crash-involved drivers. Participants will include seriously injured drivers who are transported to a trauma center by emergency medical services and fatally injured drivers transported directly to the medical examiner's office. This study will employ a case-control design that matches two drivers on the roadway for every crash-involved driver. Control drivers will be selected at or near the location of the earlier crash. Researchers will match control drivers on crash day of the week, crash time of day, and crash direction of travel. Data collection will include a blood sample from both crash-involved and control drivers. Collection of samples from seriously injured drivers will be subject to State and Trauma Center policies regarding collection of fluid samples for research purposes. Samples from fatally injured drivers will be collected in accord with State, Trauma Center, and/or coroner/medical examiner policies. Self-report surveys will be administered to control participants to collect demographic information, reason for driving trip, and opinions about driving while using alcohol or drugs. All participating control drivers will be asked to respond to the survey items, provide a preliminary breath test sample, and provide a sample of blood.

ADDRESSES: Send comments regarding the burden estimate, including suggestions for reducing the burden, to the Office of Information and Regulatory Affairs, Office of Management and Budget, 725 17th Street NW, Washington, DC 20503, Attention: Desk Officer for Department of Transportation, National Highway Traffic Safety Administration, or by email at oira_submission@omb.eop.gov, or fax: (202) 395-5806.

Comments are Invited on: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication of this notice.

Authority: 44 U.S.C. Section 3506(c)(2)(A).

Issued in Washington, DC, on March 15, 2018.
Jeff Michael,
Associate Administrator, Research and Program Development.

[FR Doc. 2018-05593 Filed 3-19-18; 8:45 am]

BILLING CODE 4910-59-P